DEPARTMENT OF EDUCATION

34 CFR Chapter I

Updated Guidance on Constitutionally Protected Prayer and Religious Expression in Public Elementary and Secondary Schools

AGENCY: Office of the General Counsel, Department of Education.

ACTION: Availability of guidance.

SUMMARY: The Department publishes updated guidance on constitutionally protected prayer and religious expression in public elementary and secondary schools, dated January 16, 2020.

DATES: January 21, 2020.

FOR FURTHER INFORMATION CONTACT: Patrick Shaheen, U.S. Department of Education, Office of the General Counsel, 400 Maryland Avenue SW, Room 6E300, Washington, DC 20202. Telephone: (202) 453-6339. Email: Patrick.Shaheen@ed.gov.

If you use a telecommunications device for the deaf (TDD) or a text telephone (TTY), call the Federal Relay Service, toll free, at 1-800-877-8339.

SUPPLEMENTARY INFORMATION: The Department publishes updated guidance, dated January 16, 2020, on constitutionally protected prayer and religious expression in public elementary and secondary schools. The purpose of this updated guidance is to provide information on the current state of the law concerning religious expression in public schools.

Section 8524(a) of the Elementary and Secondary Education Act of 1965 (ESEA), as amended by the Every Student Succeeds Act and codified at 20 U.S.C. 7904(a), requires the Secretary to issue guidance to State educational agencies (SEAs), local educational agencies (LEAs), and the public on constitutionally protected prayer in public elementary and secondary schools. In addition, section 8524(b) requires that, as a condition of receiving ESEA funds, an LEA must certify in writing to its SEA that it has no policy that prevents, or otherwise denies participation in, constitutionally protected prayer in public schools as detailed in this updated guidance.

The updated guidance is in Appendix A of this document.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: 20 U.S.C. 7904.

Dated: January 15, 2020.
Reed D. Rubinstein,
Principal Deputy General Counsel, delegated the Duties and Authority of the General Counsel.

BILLING CODE 4000-01-P

[FR Doc. 2020-00876 Filed 1-16-20; 8:45 am]

BILLING CODE 4000-01-C